DEPARTMENT OF DEFENSE

Office of the Secretary

Extension of Provider Reimbursement Demonstration Project for the State of Alaska

AGENCY: Department of Defense (DoD).

ACTION: Notice of demonstration extension.

SUMMARY: This notice provides an extension of the demonstration project in the State of Alaska for individual provider payment rates. Under the demonstration, payment rates for physicians and other non-institutional individual professional providers in the State of Alaska have been set at a rate higher than the Medicare rate.

DATES: The demonstration regarding payment rates for physicians and other non-institutional providers is extended through December 31, 2012.

ADDRESSES: TRICARE Management Activity (TMA), Medical Benefits and Reimbursement Branch, 16401 East Centretech Parkway, Aurora, CO 80011-9066.

FOR FURTHER INFORMATION CONTACT: Mr. Glenn J. Corn, TRICARE Management Activity, Medical Benefits and Reimbursement Branch, telephone (303) 676-3566.

SUPPLEMENTARY INFORMATION: On November 20, 2006, DoD published a notice of a TRICARE demonstration project for the State of Alaska, with an effective date of January 1, 2007 (71 FR 67113), to set payment rates for physicians and other non-institutional individual professional providers in the State of Alaska at a rate higher than the Medicare rate. The demonstration was effective January 1, 2007 for a period of three years, ending on December 31, 2009. On December 18, 2009, DoD published a Notice of demonstration extension (74 FR 67179) that extended the demonstration through December 31, 2010. The DoD has determined that increasing provider payment rates (factor rate increase) in Alaska, across all services, has shown mixed results on provider participation, beneficiary access to care, cost of health care services, military readiness, and morale and welfare. Due to recent Health Care Reform legislation (section 5104, Pub. L. 111-148), creating an interagency task force to assess and improve access to health care in the State of Alaska, the Agency has determined further extension of the Demonstration is needed pending receipt of the Task Force's report. The report is due to Congress no later than 180 days after the date of enactment of the Act that details the activities of the Task Force and contains the findings, strategies, recommendations, policies, and initiatives developed. The Agency needs time after the Task Force's report to review the recommendations and determine appropriate related actions; therefore, we are extending the Demonstration through December 31, 2012. The demonstration continues to be conducted under statutory authority provided in 10 United States Code 1092.

Dated: July 2, 2010.
Mitchell S. Bryman,
Alternate OSD Federal Register Liaison Officer, Department of Defense.

[FR Doc. 2010-16680 Filed 7-7-10; 8:45 am]

BILLING CODE 5001-06-P